DEPARTMENT OF COMMERCE

International Trade Administration

[A-549-821]

Polyethylene Retail Carrier Bags From Thailand: Notice of Initiation and Preliminary Results of Antidumping Duty Changed Circumstances Review

AGENCY: Enforcement and Compliance, International Trade Administration, Department of Commerce.

SUMMARY: The Department of Commerce (the Department) preliminarily determines that TPBI Public Company Limited (TPBI) is the successor-in-interest to Thai Plastic Bags Industries Company Limited (Thai Plastic Bags) for purposes of the antidumping duty order on polyethylene retail carrier bags (PRCBs) from Thailand and, as such, will be entitled to Thai Plastic Bags's exclusion from the antidumping duty order. We invite interested parties to comment on these preliminary results.

DATES: Effective: July 20, 2015.

FOR FURTHER INFORMATION CONTACT: Thomas Schauer, AD/CVD Operations, Office I, Enforcement and Compliance, International Trade Administration, Department of Commerce, 14th Street and Constitution Avenue NW., Washington, DC 20230; telephone: (202) 482-0410.

SUPPLEMENTARY INFORMATION:

Background

On June 18, 2004, the Department published the Order on PRCBs from Thailand.¹ On August 12, 2010, the Department revoked the Order on PRCBs from Thailand with respect to PRCBs manufactured and exported by Thai Plastic Bags as the result of a section 129 proceeding.²

¹ See Notice of Final Determination of Sales at Less Than Fair Value: Polyethylene Retail Carrier Bags from Thailand, 69 FR 34122 (June 18, 2004) (Order).

² See Notice of Implementation of Determination Under Section 129 of the Uruguay Round Agreements Act and Partial Revocation of the Antidumping Duty Order on Polyethylene Retail Carrier Bags From Thailand, 75 FR 48940 (August 12, 2010).

On June 4, 2015, TPBI requested that the Department initiate an expedited changed circumstances review to confirm that TPBI is the successor-in-interest to Thai Plastic Bags for purposes of determining antidumping duty liabilities.³ The petitioner supports TPBI's request for this changed circumstances review.⁴ We received no comments opposing TPBI's request.

³ See Letter from TPBI to the Department, “Polyethylene Retail Carrier Bags (PRCBs) from Thailand: Request for Expedited Changed Circumstances Review” (June 4, 2015) (CCR Request).

⁴ Id., at Exhibit 9.

Scope of the Order

The merchandise subject to the order includes PRCBs from the Thailand. PRCBs are currently classifiable under Harmonized Tariff Schedule of the United States (HTSUS) subheading 3923.21.0085. Although the HTSUS subheadings are provided for convenience and customs purposes, the written product description is dispositive.⁵

⁵ For a complete description of the Scope of the Order, see Memorandum to Paul Piquado, Assistant Secretary for Enforcement and Compliance, from Christian Marsh, Deputy Assistant Secretary for Antidumping and Countervailing Duty Operations, entitled “Antidumping Duty Order on Polyethylene Retail Carrier Bags from Thailand: Decision Memorandum for the Initiation and Preliminary Results of Antidumping Duty Changed Circumstances Review Requested by TPBI Public Company Limited ” dated concurrently with this notice and hereby adopted by this notice (Preliminary Decision Memorandum).

Methodology

In making a successor-in-interest determination, the Department typically examines several factors including, but not limited to, changes in: (1) Management; (2) production facilities; (3) supplier relationships; and (4) customer base.⁶ While no single factor or combination of factors will necessarily be dispositive, the Department generally will consider the new company to be the successor to the predecessor if the resulting operations of the successor are essentially the same as those of its predecessor.⁷ Thus, if the record demonstrates that, with respect to the production and sale of the subject merchandise, the new company operates as the same business entity as the predecessor company, the Department may assign the new company the cash deposit rate of its predecessor.⁸ For a full description of the methodology underlying our conclusions, see the Preliminary Decision Memorandum. A list of topics discussed in the Preliminary Decision Memorandum is included as Appendix I of this notice.

⁶ See, e.g., Certain Activated Carbon From the People's Republic of China: Notice of Initiation of Changed Circumstances Review, 74 FR 19934, 19935 (April 30, 2009).

⁷ See, e.g., Notice of Initiation of Antidumping Duty Changed Circumstances Review: Certain Forged Stainless Steel Flanges from India, 71 FR 327 (January 4, 2006).

⁸ See, e.g., Fresh and Chilled Atlantic Salmon From Norway; Final Results of Changed Circumstances Antidumping Duty Administrative Review, 64 FR 9979, 9980 (March 1, 1999).

Initiation and Preliminary Results of the Changed Circumstances Review

Pursuant to section 751(b)(1) of the Act and 19 CFR 351.216(d), the Department will conduct a changed circumstances review (CCR) upon receipt of a request from an interested party or receipt of information concerning an antidumping duty order which shows changed circumstances sufficient to warrant a review of the order. Section 351.221(c)(3)(ii) of the Department's regulations permits the Department to combine the initiation and preliminary results of a CCR if the Department concludes that expedited action is warranted. In this instance, we have information on the record necessary to reach the preliminary results of CCR. As such, we find that expedited action is warranted. Accordingly, we have combined the preliminary results with the initiation.

We preliminarily determine that TPBI is the successor-in-interest to Thai Plastic Bags for the purposes of administering the Order and its revocation with respect to Thai Plastic Bags. The Preliminary Decision Memorandum provides a full description of the analysis underlying our conclusions.

Public Comment

Interested parties may submit case briefs no later than 30 days after the date of publication of this notice.⁹ Rebuttal briefs, limited to issues raised in the case briefs, may be filed not later than five days after the date for filing case briefs.¹⁰ Parties who submit case briefs or rebuttal briefs in this proceeding are encouraged to submit with each argument: (1) A statement of the issue; (2) a brief summary of the argument; and (3) a table of authorities.¹¹ Pursuant to 19 CFR 351.310(c), interested parties who wish to request a hearing, or to participate if one is requested, must submit a written request to the Assistant Secretary for Enforcement and Compliance, U.S. Department of Commerce. All documents must be filed electronically using Enforcement and Compliance's Antidumping and Countervailing Duty Centralized Electronic Service System (ACCESS).¹² An electronically-filed request must be received successfully in its entirety by ACCESS by 5:00 p.m. Eastern Time, within 30 days after the date of publication of this notice.¹³ Requests should contain: (1) The party's name, address, and telephone number; (2) the number of participants; and (3) a list of issues to be discussed. Issues raised in the hearing will be limited to those raised in the respective case briefs.

⁹ See 19 CFR 351.309(c)(1)(ii).

¹⁰ See 19 CFR 351.309(d).

¹¹ See 19 CFR 351.309(c)(2) and (d)(2).

¹² ACCESS is available to registered users at http://access.trade.gov.

¹³ See 19 CFR 351.310(c).

In accordance with 19 CFR 351.216(e), the Department intends to issue the final results of this changed circumstance review not later than 270 days after the date on which the review is initiated, or within 45 days if all parties agree to our preliminary finding.

Notification to Interested Parties

This notice is issued and published in accordance with sections 751(b) and 777(i)(1) of the Act, and 19 CFR 351.216 and 351.221(c)(3)(ii).

Dated: July 14, 2015.
Paul Piquado,
Assistant Secretary for Enforcement and Compliance.

Appendix I

List of Topics Discussed in the Preliminary Decision Memorandum

I. Summary

II. Background

III. Scope of the Order

IV. Successor-in-Interest Analysis

A. Analytical Framework

B. Relevant Facts

1. Management

2. Production Facilities

3. Customer Base

4. Suppliers

C. Analysis

1. Time Period

2. Successorship Analysis

a. Management

b. Production Facilities

c. Customer Base

d. Suppliers

V. Recommendation

[FR Doc. 2015-17732 Filed 7-17-15; 8:45 am]

BILLING CODE 3510-DS-P